DEPARTMENT OF ENERGY

Federal Energy Regulatory Commission

[Docket No. RP00-326-001]

Columbia Gulf Transmission Company; Notice of Compliance Filing

August 8, 2001.

Take notice that on July 31, 2001, Columbia Gulf Transmission Company (Columbia Gulf) tendered for filing as part of its FERC Gas Tariff, Second Revised Volume No. 1, revised pro forma tariff sheets, listed in Appendices A and B to the filing, in compliance with Order Nos. 637 and 637-A.

Columbia Gulf states that the filing is made to revise various pro forma tariff sheets filed in Docket No. RP00-326-000 on June 15, 2000 in compliance with Order No. 637, and to make other revisions to tariff sheets that were not included in the June 15, 2000 filing.

Columbia Gulf states that copies of its filing have been mailed to all firm customers, interruptible customers, parties to the official service list of this proceeding, and affected state commissions.

Any person desiring to protest said filing should file a protest with the Federal Energy Regulatory Commission, 888 First Street, NE., Washington, DC 20426, in accordance with Section 385.211 of the Commission's Rules and Regulations. All such protests must be filed in accordance with Section 154.210 of the Commission's Regulations. Protests will be considered by the Commission in determining the appropriate action to be taken, but will not serve to make protestants parties to the proceedings. Copies of this filing are on file with the Commission and are available for public inspection. This filing may also be viewed on the web at http://www.ferc.gov using the “RIMS” link, select “Docket#” and follow the instructions (call 202-208-2222 for assistance). Comments, protests and interventions may be filed electronically via the Internet in lieu of paper. See, 18 CFR 385.2001(a)(1)(iii) and the instructions on the Commission's web site under the “e-Filing” link.

David P. Boergers,
Secretary.

[FR Doc. 01-20325 Filed 8-13-01; 8:45 am]

BILLING CODE 6717-01-P